FEDERAL COMMUNICATIONS COMMISSION

47 CFR Part 27

[WT Docket No. 99-168; FCC 00-330]

Service Rules for the 746-764 and 776-794 MHz Bands; Correction

AGENCY: Federal Communications Commission.

ACTION: Final rule; correction.

SUMMARY: On February 15, 2001, (66 FR 10374), the Commission published final rules in the Second Memorandum Opinion and Order. This document dismissed a petition for reconsideration as moot and adopted a special rule on default payments for auctions of licenses in the 746-764 and 776-794 MHz bands that would use a package bidding design.

DATES: Effective April 30, 2001.

FOR FURTHER INFORMATION CONTACT: Howard Davenport, Attorney, Auctions Legal Branch at (202) 418-0660.

SUPPLEMENTARY INFORMATION: The Commission published a document amending part 27 in the Federal Register of February 15, 2001 (66 FR 10374). This document corrects the Federal Register as it appeared. In rule FR Doc. 01-3786 published February 15, 2001 (66 FR 10374), the Commission is correcting paragraph 16 and § 27.501 to include text that was inadvertently omitted.

In rule FR Doc. 01-3786 published on February 15, 2001 (66 FR 10374) make the following corrections:

1. On page 10377, in the first column and starting on line 7, paragraph 16 is corrected by adding a sentence at the end of the paragraph to reads as follows:

In determining whether the defaulted bid(s) or the subsequent winning bid(s) is the lesser amount, we will compare the defaulted and subsequent bid(s) according to the same rules we set forth in paragraph 15 for calculation of the deficiency portion of the default payment.

§ 27.501 [CORRECTED]

2. On page 10377, in the first and second column in § 27.501 the addition of paragraph (b) introductory text is corrected to read as follows:

§ 27.501 746-764 MHz and 776-794 MHz bands subject to competitive bidding.

* * * * *

(b) For auctions of licenses in the 747-762 and 777-792 MHz Bands using a package bidding design, the payments imposed on bidders who default on payments due after an auction closes or who are disqualified, set forth in § 1.2104(g) of this chapter, shall be calculated as follows. The default payment consists of a deficiency portion and an additional payment. The additional payment shall be 25 percent of the subsequent winning bid or the defaulted bid, whichever is less. In the case that either the subsequent winning bid or the defaulted bid is subject to bidding credits, the additional payment will be calculated in an analogous manner to that used in § 1.2104(g)(2) of this chapter. The deficiency portion of the default payment shall be calculated as set forth in § 27.501(b)(1) through (b)(4). In the case that any of the relevant bids are subject to bidding credits, the default payment will be adjusted in an analogous manner to that used in § 1.2104(g)(1) of this chapter. In calculating the additional payment portion of the default payment, to determine whether the defaulted bid(s) or the subsequent winning bid(s) is the lesser amount, the defaulted and subsequent bid(s) will be compared according to the rules set forth in paragraphs (b)(1) through (4) of this section for calculation of the deficiency portion of the default payment.

* * * * *

Federal Communications Commission.
Magalie Roman Salas,
Secretary.

[FR Doc. 01-10629 Filed 4-27-01; 8:45 am]

BILLING CODE 6712-01-M